DEPARTMENT OF HOMELAND SECURITY

Federal Emergency Management Agency

[Docket ID: FEMA-2018-0022; OMB No. 1660-0059]

Agency Information Collection Activities: Submission for OMB Review; Comment Request; National Flood Insurance Program Call Center and Agent Referral Enrollment Form

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before November 1, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Susan Bernstein, Insurance Specialist, FIMA, Marketing and Outreach Branch, (202) 701-3595.

SUPPLEMENTARY INFORMATION: This proposed information collection previously published in the Federal Register on June 15, 2018 at 83 FR 28007 with a 60-day public comment period. FEMA received one public comment that did not require any adjudication related to the information collection. Under Flood Disaster Protection Act of 1973, Section 2(a)(6), 42 U.S.C. 4002(a)(6), Congress finds it is in the public interest for persons already living in flood prone areas to have an opportunity to purchase flood insurance and access to more adequate limits of coverage to be indemnified for their losses in the event of future flood disasters. To this end, FEMA established and carries out a National Flood Insurance Program (NFIP), which enables interested persons to purchase insurance against loss resulting from physical damage to or loss of real or personal property arising from any flood occurring in the United States. 42 U.S.C. 4011. In carrying out the NFIP, FEMA operates a call center in conjunction with the FloodSmart website (www.FloodSmart.gov). Together these methods of marketing and outreach provide the mechanism for current and potential policyholders to learn more about floods and flood insurance, contact an agent, or assess their risk. The information collected from callers/visitors is used to fulfill requests for published materials, email alerts, policy rates, and agent contact information.

Additionally, FEMA and the NFIP offer Agents.FloodSmart.gov as a resource for agents. Upon website registration, agents can enroll in the Agent Referral Program to receive free leads through the consumer site or the call center as outlined above. This information collection seeks approval to continue collecting name, address and telephone number information from: (1) Business and residential property owners and renters who voluntarily call to request flood insurance information and possibly an insurance agent referral and, (2) insurance agents interested in enrolling in the agent referral service.

Collection of Information

Title: National Flood Insurance Program Call Center and Agent Referral Enrollment Form.

Type of Information Collection: Extension, without change, of a currently approved information collection.

OMB Number: 1660-0059.

FEMA Forms: FEMA Form 517-0-1, National Flood Insurance Program Agent Site Registration; FEMA Form 512-0-1, National Flood Insurance Program Agent Referral Questionnaire.

Abstract: Consumer names, addresses, and telephone numbers collected through the Call Center or FloodSmart website will be used exclusively for providing information on flood insurance and/or facilitate the purchase of a flood insurance policy through referrals or direct transfers to insurance agents in the agent referral service. Agent names, addresses, telephone numbers, and business information is retained for dissemination to interested consumers who would like to talk to an agent about purchasing a flood insurance policy as part of the agent referral program.

Affected Public: Individuals or households; Businesses or other for-profit.

Estimated Number of Respondents: 59,194.

Estimated Number of Responses: 59,194.

Estimated Total Annual Burden Hours: 2,819 hours.

Estimated Total Annual Respondent Cost: $103,335.52.

Estimated Respondents' Operation and Maintenance Costs: $0.

Estimated Respondents' Capital and Start-Up Costs: $0.

Estimated Total Annual Cost to the Federal Government: $406,941.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William Holzerland,
Director, Information Management Division, Mission Support, Federal Emergency Management Agency, Department of Homeland Security.

[FR Doc. 2018-21404 Filed 10-1-18; 8:45 am]

BILLING CODE 9111-52-P